DEPARTMENT OF THE TREASURY

Senior Executive Service Combined Performance Review Board (PRB)

AGENCY: Treasury Department.

ACTION: Notice of Members of Combined Performance Review Board (PRB).

SUMMARY: Pursuant to 5 U.S.C. 4314(c)(4), this notice announces the appointment of members of the Combined PRB for the Bureau of Engraving and Printing, the Financial Management Service, the U.S. Mint and the Bureau of the Public Debt. The Board reviews the performance appraisals of career senior executives below the level of bureau head and principal deputy in the four bureaus, except for executives below the Assistant Commissioner level in the Financial Management Service. The Board makes recommendations regarding proposed performance appraisals, ratings, bonuses and other appropriate personnel actions.

COMPOSITION OF COMBINED PRB: The Board shall consist of at least three voting members. In case of an appraisal of a career appointee, more than half of the members shall consist of career appointees. The names and titles of the Combined PRB members are as follows:

PRIMARY MEMBERS: Jay M. Weinstein, Associate Director for Policy and Management & CFO, Mint; Debra L. Hines, Assistant Commissioner (Public Debt Accounting), PD; Joel C. Taub, Associate Director (Management), E&P; Larry D. Stout, Assistant Commissioner, Federal Finance, FMS.

ALTERNATE MEMBERS: David Pickens, Associate Director for Numismatics, Mint; Frederick A. Pyatt, Assistant Commissioner (Office of Investor Services), PD; Gregory D. Carper, Associate Director (Chief Financial Officer), E&P; Scott Johnson, Assistant Commissioner, Management & CFO, FMS.

DATES: Membership is effective on October 9, 2001.

FOR FURTHER INFORMATION CONTACT: Joel C. Taub, Associate Director (Management), Bureau of Engraving and Printing, 14th and C Sts., Washington, DC 20228, (202) 874-2040.

This notice does not meet the Department's criteria for significant regulations.

Joel C. Taub,
Associate Director (Management), Bureau of Engraving and Printing.

[FR Doc. 01-25186 Filed 10-5-01; 8:45 am]

BILLING CODE 4840-01-M